DEPARTMENT OF COMMERCE

National Oceanic and Atmospheric Administration

[I.D. 031006C]

Marine Mammal Authorization Program Integration of Registration for Selected Atlantic Ocean, Gulf of Mexico, and Caribbean Fisheries

AGENCY: National Marine Fisheries Service (NMFS), National Oceanic and Atmospheric Administration (NOAA), Commerce.

ACTION: Notice of integrated registration program for Southeast fisheries.

SUMMARY: NMFS is providing notice that it is increasing the number of fisheries for which the Marine Mammal Authorization Program (MMAP) registration is integrated with existing state and Federal fishery licensing and permitting programs. NMFS is integrating MMAP registration for state fisheries permitted through the states of North Carolina, South Carolina, Georgia, Florida, Louisiana, Alabama, Mississippi, Texas, Puerto Rico, and the U.S. Virgin Islands.

ADDRESSES: For east coast fisheries, MMAP marine mammal injury/mortality reporting forms may be obtained at the following Web address: http://www.nmfs.noaa.gov/pr/pdfs/interactions/mmap_reporting_form.pdf or from the following office:

NMFS, Southeast Regional office, Protected Resources Division, 263 13th Avenue South, St. Petersburg, FL 33701, Attn: Teletha Mincey.

FOR FURTHER INFORMATION CONTACT: Vicki Cornish, Southeast Regional Office, 727-824-5312; or Patricia Lawson, Office of Protected Resources, 301-713-2322. Individuals who use a telecommunications device for the deaf (TDD) may call the Federal Information Relay Service at 1-800-877-8339 between 8 a.m. and 4 p.m. Eastern time, Monday through Friday, excluding Federal holidays.

SUPPLEMENTARY INFORMATION:

Background

The Marine Mammal Protection Act (MMPA) prohibits the taking (defined as actual or attempted harassment, hunt, capture, or kill) of marine mammals, with certain exceptions. The MMAP provides an authorization for commercial fishermen that allows the incidental (i.e., non-intentional) taking of marine mammals during the course of commercial fishing operations. NMFS must annually publish a List of Fisheries (LOF)(71 FR 247, January 4, 2006), which categorizes commercial fisheries based on the rates or likelihood of serious injury or mortality (bycatch) of marine mammals incidental to each fishery. Specifically, Category I fisheries are those with frequent bycatch; Category II fisheries have occasional bycatch; and Category III fisheries have a remote likelihood of or no known bycatch. All fishermen who participate in a Category I or II fishery must be registered with the MMAP to receive an Authorization Certificate, which authorizes their incidental taking of marine mammals. Participants in Category III fisheries are not required to register with the MMAP. Fishermen participating in any commercial fishery, regardless of category, are required to report all incidental injuries and mortalities of marine mammals to NMFS within 48 hours of returning from a fishing trip. For a complete description of requirements for fishermen participating in Category I, II, and III fisheries, please consult 50 CFR part 229, subpart A.

Rather than requiring all participants in Category I and II fisheries to register individually, the MMPA directs NMFS to integrate registration with existing state or Federal fishery permitting or licensing programs (section 118(c)(5)(A)). NMFS' goals for the integrated registration program include ensuring consistency in registration procedures across a greater number of fisheries, increasing the number of registrants to better reflect the level of participation in the fisheries, and conducting outreach to the fishing industry with regard to MMPA requirements. Using data from existing fishery licensing programs, the MMAP integration will reduce the registration burden on the fishing industry while facilitating the protection and conservation of marine mammals through increased outreach efforts. In a licensing system that is integrated with the MMAP, fishermen will no longer have to submit an MMAP Pregistration/ renewal form or the $25 processing fee to NMFS in order to receive or renew their MMAP Authorization Certificates.

In the southeast U.S., MMAP integration has already been established for federally-permitted fisheries (67 FR 79905, December 31, 2002), but MMAP integration has not heretofore been established for state-permitted fisheries. For 2006 and beyond, NMFS will be integrating the MMAP registration process for all Southeast state-permitted fisheries as identified in the final 2005 LOF (71 FR 247, January 4, 2006). Southeast state fisheries include those permitted by the states of North Carolina, South Carolina, Georgia, Alabama, Mississippi, Louisiana, Texas, Puerto Rico, and the U.S. Virgin Islands.

NMFS will make an annual data request to each of these states for permit or license-holder information. Using this information, NMFS will mail MMAP Authorization Certificates, marine mammal injury/mortality reporting forms, and other program information to each permit or license-holder. Fishermen who participate in an integrated Category I or II state fishery do not need to take any additional action to register under the MMAP, as long as they hold a valid state fishing permit or license for the affected fishery. However, fishermen who participate in state and/or Federal fisheries not yet integrated with the MMAP registration system (i.e., fisheries for which no Federal or state permits are required) must contact the NMFS, Southeast Regional Office, Protected Resources Division, in order to register and receive an MMAP authorization certificate. If a fisherman participating in a Category I or II fishery, who expects to receive automatic registration, does not receive their authorization certificate by March 31, 2006, or by January 1 of each calendar year thereafter, the fisherman should contact NMFS (see FOR FURTHER INFORMATION CONTACT) to inquire about the status of their registration. Alternatively, they may apply for registration directly, following the procedures in 50 CFR 229.4(b).

NMFS will work with the permit-issuing agencies in each state to identify and attempt to limit mailing of authorization certificates to only those participants in Category I and II fisheries. Some permit systems, however, do not allow identification of fishermen using specific gear types in a way that matches the fishery designation referenced in the LOF. In cases where NMFS or the state permit-issuing agency cannot confidently determine which specific fishery identified in the LOF each fishermen participates in, based on the permit or license information, NMFS may inadvertently issue Authorization Certificates to fishermen participating in Category III fisheries. This approach, which may be confusing to Category III fishermen who are not required to be registered under the MMAP, is necessary to ensure that fishermen who need to register with the MMAP are not unintentionally excluded.

Dated: March 13, 2006.
James H. Lecky,
Director, Office of Protected Resources, National Marine Fisheries Service.

[FR Doc. E6-3995 Filed 3-17-06; 8:45 am]

BILLING CODE 3510-22-S